DEPARTMENT OF COMMERCE

International Trade Administration

Advocacy Quality Assurance Survey

ACTION: Proposed collection; comment request.

SUMMARY: The Department of Commerce, as part of its continuing effort to reduce paperwork and respondent burdens, invites the general public and other Federal agencies to take this opportunity to comment on the continuing information collections, as required by the Paperwork Reduction Act of 1995, Pub. L. 104-13 (44 U.S.C. 3506(2)(A)).

DATES: Written comments must be submitted on or before May 3, 2004.

ADDRESSES: Direct all written comments to Diana Hynek, Departmental Paperwork Clearance Officer, Department of Commerce, Room 6625, 14th & Constitution Avenue, NW., Washington, DC 20230. E-mail: dHynek@doc.gov.

FOR FURTHER INFORMATION CONTACT: Request for additional information or copies of the information collection instrument and instructions should be directed to: Erin Butler, 14th & Constitution Avenue, NW., Washington, DC 20230; Phone number: (202) 482-1170; E-mail: erin.butler@mail.doc.gov.

SUPPLEMENTARY INFORMATION:

I. Abstract

The International Trade Administration's U.S. Commercial Service is mandated by Congress to help U.S. businesses, particularly small and medium-sized companies, export their products and services to global markets.

As part of its mission, the U.S. Commercial Service uses “Quality Assurance Surveys” to collect feedback from the U.S. business clients it serves. These surveys ask the client to evaluate the U.S. Commercial Service on its customer service provision. Results from the surveys are used to make improvements to the agency's business processes in order to provide better and more effective export assistance to U.S. companies.

The purpose of the attached survey is to collect feedback from U.S. businesses that receive advocacy services from the U.S. Commercial Service. In providing these services, the U.S. Commercial Service advocates on behalf of a U.S. company that is bidding on a project or government contract, trying to recover payment or goods, or facing a barrier to market entry.

II. Method of Collection

Form ITA-XXXX is sent to U.S. companies that receive advocacy assistance from the U.S. Commercial Service.

III. Data

OMB Number: 0625-XXXX.

Form Number: ITA-XXXX.

Type of Review: Regular Submission.

Affected Public: U.S. companies who receive advocacy services from USFCS international posts.

Estimated Number of Respondents: 227.5.

Estimated Time Per Response: 10 minutes.

Estimated Total Annual Burden Hours: 37.92 hours.

Estimated Total Annual Costs: The estimated annual cost for this collection is $1,327.08.

IV. Request for Comments

Comments are invited on (a) Whether the proposed collection of information is necessary for proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: February 27, 2004.
Madeleine Clayton,
Management Analyst, Office of the Chief Information Officer.

[FR Doc. 04-4708 Filed 3-2-04; 8:45 am]

BILLING CODE 3510-FP-P